DEPARTMENT OF VETERANS AFFAIRS

Privacy Act of 1974; System of Records

AGENCY: Department of Veterans Affairs (VA).

ACTION: Notice of amendment to system of records.

SUMMARY: The Privacy Act of 1974 (5 U.S.C. 552(e) (4)) requires that all agencies publish in the Federal Register a notice of the existence and character of their systems of records. Notice is hereby given that the Department of Veterans Affairs (VA) is amending the system of records currently entitled “Suicide Prevention Database-VA” (158VA11). VA is amending the system by revising the System Name, System Number, System Location, Categories of Records in the System, Purpose, Storage, Safeguard, Retention and Disposal, System Manager and Address, Notification Procedure, and Record Access Procedure.

DATES: Comments on this new system of records must be received no later than May 26, 2015. If no public comment is received, the new system will become effective May 26, 2015.

ADDRESSES: Written comments concerning the proposed amended system of records may be submitted by: mail or hand-delivery to Director, Regulations Management (02REG), Department of Veterans Affairs, 810 Vermont Avenue NW., Room 1068, Washington, DC 20420; fax to (202) 273-9026; or email to http://www.Regulations.gov. All comments received will be available for public inspection in the Office of Regulation Policy and Management, Room 1063B, between the hours of 8:00 a.m. and 4:30 p.m., Monday through Friday (except holidays). Please call (202) 461-4902 (this is not a toll-free number) for an appointment.

FOR FURTHER INFORMATION CONTACT: Janet Kemp RN, Ph.D., Department of Veterans Affairs, 400 Fort Hill Avenue, Canandaigua, NY 14424; telephone (585) 393-7939.

SUPPLEMENTARY INFORMATION: The system name is being changed from “Suicide Prevention Database-VA” to “Veterans Crisis Line Database-VA.” The system number is changed from 158VA11 to 158VA10NC5 to reflect the current Organizational alignment.

The System Location section is being amended to include the Veterans Crisis Line Database being maintained at the VA Austin Information Technology Center (AITC) in Austin, Texas. Also, back-up copies of the database are maintained in accordance with VA OIT enterprise management policies.

The Categories of Records in the System is being amended to replace the National Suicide Hotline Web Application Program with the VCL Application. Data is now collected in the AITC standard query language (SQL) database instead of the Statistical Package for the Social Sciences (SPSS) statistical package.

The purpose section is being amended to update the National Suicide Hotline to the Veterans Crisis Line. The Storage section is amended to reflect that records are maintained on an SQL server at VA AITC in Austin, Texas. The Safeguards section is being amended to state that access to computer rooms at the VA AITC is limited in accordance with VA OIT national security policies.

The Retention and Disposal section is being amended to remove that paper records and information are maintained and disposed of in accordance with records disposition authority approved by the Archivist of the United States. The new language will state that these records are maintained as a permanent record, pending approval of a new records schedule by the National Archives and Records Administration.

The System Manager and Address is being amended from stating “VISN 2 Center of Excellence at Canandaigua VA Medical Center (528A5), 400 Fort Hill Avenue, Canandaigua, NY 14424. Officials responsible for the system of records include Craig S. Howard, Director, Canandaigua VA Medical Center; Kerry L. Knox, Ph.D., Director, VISN 2 Center of Excellence; Janet Kemp, RN, Ph.D., Associate Director Education and Training, VISN 2 Center of Excellence.” This section now states that “the official responsible for policies and procedures; Office of Mental Health Operations (10NC5), 810 Vermont Avenue NW., Washington, DC 20420. Official responsible for the system of records: Executive Director, Office of Mental Health Operations (10NC5).”

The Notification Procedure and Record Access Procedure sections are being amended from the Canandaigua VA Medical Center to Office of Mental Health Operations (10NC5).

The Report of Intent to Amend a System of Records Notice and an advance copy of the system notice have been sent to the appropriate Congressional committees and to the Director of the Office of Management and Budget (OMB) as required by 5 U.S.C. § 552a(r) (Privacy Act) and guidelines issued by OMB (65 FR 77677), December 12, 2000.

Signing Authority: The Secretary of Veterans Affairs, or designee, approved this document and authorized the undersigned to sign and submit the document to the Office of the Federal Register for publication electronically as an official document of the Department of Veterans Affairs. Jose D. Riojas, Chief of Staff, approved this document on April 2, 2015, for publication.

Dated: April 10, 2015.
Kathleen M. Manwell,
VA Privacy Service, Office of Privacy and Records Management, Department of Veterans Affairs.

158VA10NC5

SYSTEM NAME:

“Veterans Crisis Line Database-VA”.

SYSTEM LOCATION:

The Veterans Crisis Line (VCL) Database will be maintained at the VA Austin Information Technology Center (AITC) in Austin, Texas. Back-up copies of the database are maintained in accordance with VA OIT enterprise management policies. In addition, information from these records or copies of records may be maintained at the Department of Veterans Affairs, 810 Vermont Avenue NW., Washington, DC.

CATEGORIES OF INDIVIDUALS COVERED BY THE SYSTEM:

The records include information concerning Veterans and friends and family of Veterans who access the Veterans Crisis Line. In addition, records include the name of the Crisis Line call responder and the name of the Suicide Prevention Coordinator.

CATEGORIES OF RECORDS IN THE SYSTEM:

The records may include information related to:

1. The Veterans Crisis Line call logs via the VCL Application include the following information:

a. Identifies, by full name, the Veterans Crisis Line responder;

b. Identifies, by full name, the Suicide Prevention Coordinator;

c. Documents information regarding calls to the Veterans Crisis Line which may include:

(1) Calls from an anonymous person with incomplete identification information;

(2) Calls from a Veteran, including Veterans who are not registered in VA health care system (non-VA);

(3) Calls from family and friends of the affected Veteran (In this case, the system shall indicate that the call was not made from the affected Veteran).

d. Identifies the VA Medical Center closest to the caller's physical location;

e. Records Crisis Line referrals in the Veteran's electronic medical record when the referral is made to a VA Medical Center for follow-up care;

f. Provides a means for Suicide Prevention Coordinators to document their follow-up measures;

g. Provides access to call log data for reporting purposes: Provides information related to the number of calls, callers demographic information, the types of calls, and follow-up care.

2. The suicide attempts and completions data is collected in the AITC standard query language (SQL) database. The information includes attempt or completion, military conflict, VA enrolled, gender, age, mental health diagnosis, medical diagnosis, previous attempts, month of event, method used, outcome, intent, seen at a VA within 7 days of attempt, seen at VA within 30 days of attempt, where seen, had suicide been addressed, and last recorded pain score.

AUTHORITY FOR MAINTENANCE OF THE SYSTEM:

Title 38, United States Code, section 501.

PURPOSE(S):

The records and information may be used for ensuring appropriate follow-up care is provided to those who telephone the Veterans Crisis Line. In addition, the information will be used for statistical reports for the purpose of evaluating the need for development of further suicide prevention efforts to include education and research. Additionally, the statistical reports will be used to provide information related to suicide to VA officials, congressional members, and the public.

ROUTINE USES OF RECORDS MAINTAINED IN THE SYSTEM, INCLUDING CATEGORIES OF USERS AND THE PURPOSES OF SUCH USES:

To the extent that records contained in the system include information protected by 45 CFR parts 160 and 164, i.e., individually identifiable health information, and 38 U.S.C. 7332, i.e., medical treatment information related to drug abuse, alcoholism or alcohol abuse, sickle cell anemia or infection with the human immunodeficiency virus (HIV), that information cannot be disclosed under a routine use unless there is also specific statutory authority in 38 U.S.C. 7332 and regulatory authority in 45 CFR parts 160 and 164 permitting disclosure. The Veterans Crisis Line Database-VA system of record will be routinely used for the following:

1. The record of an individual who is covered by a system of records may be disclosed to a Member of Congress, or a staff person acting for the Member, when the Member or staff person requests the record on behalf of and at the written request of the individual.

2. Disclosure may be made to National Archives and Records Administration (NARA) and the General Services Administration (GSA) in records management inspections conducted under authority of Title 44, Chapter 29, of the United States Code (U.S.C.).

3. Disclosure may be made to other Government agencies in support of data exchanges of electronic medical record information approved by the individual.

4. VA may disclose on its own initiative any information in this system, except the names and home addresses of Veterans and their dependents, that is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order. VA may also disclose on its own initiative the names and addresses of Veterans and their dependents to a Federal agency charged with the responsibility of investigating or prosecuting civil, criminal or regulatory violations of law, or charged with enforcing or implementing the statute, regulation, rule or order issued pursuant thereto.

5. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

6. Disclosures of relevant information may be made to individuals, organizations, private or public agencies, or other entities with whom VA has a contract or agreement or where there is a subcontract to perform the services as VA may deem practicable for the purposes of laws administered by VA, in order for the contractor or subcontractor to perform the services of the contract or agreement. This routine use includes disclosures by the individual or entity performing the service for VA to any secondary entity or individual to perform an activity that is necessary for individuals, organizations, private or public agencies, or other entities or individuals with whom VA has a contract or agreement to provide the service to VA.

7. Disclosure to other Federal agencies may be made to assist such agencies in preventing and detecting possible fraud or abuse by individuals in their operations and programs.

8. VA may disclose information to the Equal Employment Opportunity Commission when requested in connection with investigations of alleged or possible discriminatory practices, examination of Federal affirmative employment programs, or for other functions of the Commission as authorized by law or regulation.

9. VA may disclose to the Fair Labor Relations Authority (FLRA) (including its General Counsel) information related to the establishment of jurisdiction, the investigation and resolution of allegations of unfair labor practices, or information in connection with the resolution of exceptions to arbitration awards when a question of material fact is raised; to disclose information in matters properly before the Federal Services Impasse Panel, and to investigate representation petitions and conduct or supervise representation elections.

10. VA may disclose information to officials of the Merit Systems Protection Board (MSPB), or the Office of Special Counsel, when requested in connection with appeals, special studies of the civil service and other merit systems, review of rules and regulations, investigation of alleged or possible prohibited personnel practices, and such other functions, promulgated in 5 U.S.C. 1205 and 1206, or as authorized by law.

11. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or disclosure is to agencies, entities, or persons whom VA determines are reasonably necessary to assist or carry out the Department's efforts to respond to the suspected or confirmed compromise and prevent, minimize, or remedy such harm. This routine use permits disclosures by the Department to respond to a suspected or confirmed data breach as the terms are defined in 38 U.S.C. 5727, including the conduct of any risk analysis or provision of credit protection services as provided in 38 U.S.C. 5724.

POLICIES AND PRACTICES FOR STORING, RETRIEVING, ACCESSING, RETAINING, AND DISPOSING OF RECORDS IN THE SYSTEM:

STORAGE:

Records are maintained on an SQL server at VA AITC in Austin, Texas.

RETRIEVABILITY:

Records are retrieved by name, social security number or other assigned identifiers of the individuals on whom they are maintained.

SAFEGUARDS:

1. VA will maintain the data in compliance with applicable VA security policy directives that specify the standards that will be applied to protect sensitive personal information. VA's security measures comply with applicable Federal Information Processing Standards (FIPS) issued by the National Institute of Standards and Technology (NIST). Access to VA working and storage areas is restricted to VA employees on a “need-to-know” basis; strict control measures are enforced to ensure that disclosure to these individuals is also based on this same principle. They are required to take annual VA mandatory data privacy and security training. Generally, VA file areas are locked after normal duty hours and the facilities are protected from outside access by the Federal Protective Service or other security personnel.

2. Access to computer rooms at the VA AITC is limited in accordance with VA OIT national security policies. Peripheral devices are placed in secure areas (areas that are locked or have limited access) or are otherwise protected. Information stored on the Veterans Crisis Line Database-VA may be accessed by authorized VA employees. Access to file information is controlled at two levels; the systems recognize authorized employees by series of individually unique passwords/codes as a part of each data message, and the employees are limited to only that information in the file which is needed in the performance of their official duties. Information that is downloaded from the Veterans Crisis Line Database-VA and maintained on personal computers is afforded similar storage and access protections as the data that is maintained in the original files. Access to information stored on automated storage media at other VA locations is controlled by individually unique passwords/codes.

RETENTION AND DISPOSAL:

Currently these records are maintained as a permanent record, pending approval of a new records schedule by the National Archives and Records Administration.

SYSTEM MANAGER(S) AND ADDRESS:

Official responsible for policies and procedures; Office of Mental Health Operations (10NC5), 810 Vermont Avenue NW., Washington, DC 20420. Official responsible for the system of records: Executive Director, Office of Mental Health Operations (10NC5).

NOTIFICATION PROCEDURE:

Individuals who wish to determine whether this system of records contains information about them should contact the Office of Mental Health Operations (10NC5). Inquiries should include the person's full name, social security number, dates of employment, date(s) of contact, and return address.

RECORD ACCESS PROCEDURE:

Individuals seeking information regarding access to and contesting of records in this system may write, call or visit the Office of Mental Health Operations (10NC5).

CONTESTING RECORD PROCEDURES:

(See Record Access Procedures above.)

RECORD SOURCE CATEGORIES:

Information in this system of records is provided by VHA employees.

[FR Doc. 2015-09567 Filed 4-23-15; 8:45 am]

BILLING CODE P